DEPARTMENT OF THE INTERIOR

National Park Service

[NPS-WASO-NRNHL-DTS#-38169; PPWOCRADI0, PCU00RP14.R50000]

National Register of Historic Places; Notification of Pending Nominations and Related Actions

AGENCY: National Park Service, Interior.

ACTION: Notice.

SUMMARY: The National Park Service is soliciting electronic comments on the significance of properties nominated before June 15, 2024, for listing or related actions in the National Register of Historic Places.

DATES: Comments should be submitted electronically by July 12, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 15, 2024. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

CALIFORNIA

Ventura County

Scarlett Ranch, 5011 West Gonzalez Road, Oxnard vicinity, SG100010545

Bell Canyon Equestrian Center, 29 Baymare Road, Bell Canyon, SG100010547

COLORADO

Denver County

J. Warner Mills House, 2350 N Gilpin Street, Denver, SG100010539

KANSAS

Atchison County

Mount Vernon Cemetery, 6920 Rawlins Road, Atchison, SG100010558

Harper County

Transcontinental Airway Beacon, 15 Northwest 20 Avenue, Anthony, SG100010565

MASSACHUSETTS

Barnstable County

Marcel Breuer House and Studio, (Mid 20th Century Modern Residential Architecture on Outer Cape Cod MPS), 634 Black Pond Road, Wellfleet, MP100010568

Hampden County

Central Churchill Historic District, Roughly bounded by Chestnut, Franklin, High, and Sargeant streets, Holyoke, SG100010564

Worcester County

North Burial Ground, Old Union Turnpike, Lancaster, SG100010567

MINNESOTA

Hennepin County

Minnesota Bridge 2440, (Reinforced-Concrete Highway Bridges in Minnesota MPS), Trunk Highway 65/Third Avenue South/Central Avenue Southeast over the Mississippi River, Minneapolis, MP100010560

Ramsey County

Northern Federal Building, 386 Wabasha Street North, Saint Paul, SG100010566

Todd County

Eagle Bend High School, (Federal Relief Construction in Minnesota, 1933-1943 MPS), 405 Main Street, Eagle Bend, MP100010559

MISSOURI

Cooper County

Kemper Military School Historic District, The (Boundary Increase), (Boonville Missouri MRA), Generally bounded by Vine Street, Third Street, Spruce Street, and the Katy Trail (vacated tracks of the Missouri Pacific Railroad), Boonville, BC100010553

Jackson County

John Hancock Building, 800 W 47th Street, Kansas City, SG100010555

St. Louis County

Parkview Towers, 701 Westgate Avenue, University City, SG100010557

St. Louis INDEPENDENT CITY

Mavrakos Candy Company, 4709-4717 Delmar Blvd., St. Louis, SG100010556

UTAH

Salt Lake County

Enniss Auto Service Station, (Draper, Utah MPS), 11651 S 700 East, Draper, MP100010546

WISCONSIN

Marathon County

Maine Site (47MR22) (Boundary Increase), Address Restricted, Brokaw vicinity, BC100010562

A request for removal has been made for the following resource(s):

NORTH DAKOTA

Stutsman County

Midland Continental Overpass (Historic Roadway Bridges of North Dakota MPS), Over abandoned railroad grade, former US 10, approximately 7 mi. E of Jamestown, Jamestown vicinity, OT97000194

Additional documentation has been received for the following resource(s):

COLORADO

Denver County

Downtown Denver Central YMCA and Annex (Additional Documentation), 25 E Sixteenth Ave., Denver, AD04000736

MISSOURI

Cooper County

Kemper Military School Historic District (Additional Documentation) (Boonville Missouri MRA), Vine and 2nd Sts., Boonville, AD83000979

TENNESSEE

Maury County

Hamilton Place (Additional Documentation), 1605 N Main Street, Mt. Pleasant vicinity, AD73001812

Wilson County

Smith, Warner Price Mumford, House (Additional Documentation), 10277 Lebanon Rd., Mount Juliet vicinity, AD93000647

WISCONSIN

Marathon County

Maine Site (47MR22) (Additional Documentation), Address Restricted, Brokaw vicinity, AD84003711

Nomination(s) submitted by Federal Preservation Officers:

The State Historic Preservation Officer reviewed the following nomination(s) and responded to the Federal Preservation Officer within 45 days of receipt of the nomination(s) and supports listing the properties in the National Register of Historic Places.

DISTRICT OF COLUMBIA

District of Columbia

U.S. Naval Observatory, U.S. Naval Observatory and Hydrographical Office, 3450 Massachusetts Avenue NW, Washington, SG100010550

Authority: Section 60.13 of 36 CFR part 60.

Sherry A. Frear,
Chief, National Register of Historic Places/National Historic Landmarks Program.

[FR Doc. 2024-14095 Filed 6-26-24; 8:45 am]

BILLING CODE 4312-52-P